DEPARTMENT OF ENERGY

Federal Energy Regulatory Commission

[Docket No. RP06-631-000]

SCG Pipeline, Inc.; Notice of Filing

October 4, 2006.

Take notice that on September 29, 2006, under General Terms and Conditions (GT&C) sections 12.8, 22, 25 and 26 of its FERC Gas Tariff, Original Volume No. 1 and Part 154 of the Commission's regulations, 18 CFR part 154 (2006), SCG Pipeline, Inc. (SCG) submitted work papers calculating the anticipated balances as of October 31, 2006 in each of the following three accounts and the estimated amounts either owed to shippers by SCG or owed to SCG by shippers in order to clear each account: (1) The Fuel Retainage Quantity (FRQ) Deferred Account; (2) the System Balancing Cost Reconciliation Mechanism (SBCRM) Deferred Account; and (3) the interruptible transportation (IT) revenue account.

SCG requests that the Commission approve its calculations and its treatment of balances to clear SCG's FRQ, SBCRM and IT revenue accounts in connection with SCG's closing of operations and the cancellation of its FERC Gas Tariff. SCG states that the affected SCG customers have agreed to this filing.

SCG states that a copy of this filing has been served upon all of its customers and interested state commissions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-16801 Filed 10-10-06; 8:45 am]

BILLING CODE 6717-01-P